DEPARTMENT OF COMMERCE

National Oceanic and Atmospheric Administration

[I.D. 030206A]

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Scallop Committee in March, 2006 to consider actions affecting New England fisheries in the exclusive economic zone (EEZ). Recommendations from this group will be brought to the full Council for formal consideration and action, if appropriate.

DATES: The meeting will be held on Friday, March 31, 2006, at 9 a.m.

ADDRESSES: The meeting will be held at the Hilton Garden Inn, One Thuber Street, Warwick, RI 02886; telephone: (401) 734-9600; fax: (401) 734-9700.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The committee will review public comments received during scoping for Scallop Amendment 11. The Committee will also review input from both the Scallop and General Category Scallop Advisory Panels about the scope of Amendment 11. The committee will review and recommend for Council consideration goals and objectives for Amendment 11. The committee will begin development alternatives for consideration in the Amendment 11 Draft Supplemental Environmental Impact Statement (DSEIS), including, but not limited to, identifying an appropriate range of resource allocation between the limited access and general category scallop fisheries and potential qualification criteria for a limited entry program for the general category fishery and will identify research priorities for the research set-aside program for fishing year 2007. The committee may consider other topics at their discretion.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at 978-465-0492, at least 5 days prior to the meeting date.

Authority: 16 U.S.C. 1801 et seq.

Dated: March 2, 2006.
Tracey L. Thompson,
Acting Director, Office of Sustainable Fisheries, National Marine Fisheries Service.

[FR Doc. E6-3156 Filed 3-6-06; 8:45 am]

BILLING CODE 3510-22-S